DEPARTMENT OF ENERGY

Federal Energy Regulatory Commission

[Docket No. CP20-47-000]

PennEast Pipeline Company, LLC; Notice of Availability of the Environmental Assessment for the Proposed Penneast 2020 Amendment Project

The staff of the Federal Energy Regulatory Commission (FERC or Commission) has prepared an environmental assessment (EA) for the PennEast 2020 Amendment Project, proposed by PennEast Pipeline Company, LLC (PennEast) in the above-referenced docket. PennEast proposes to amend its certificate of public convenience and necessity for the PennEast Pipeline Project (Docket No. CP15-558-000) that was issued by the Commission on January 19, 2018 and the PennEast Pipeline Project Amendment (CP19-78-000) that was issued by the Commission on March 19, 2020. In the PennEast 2020 Amendment Project, PennEast requests authorization to construct and operate the previously authorized project in two phases, beginning with the facilities located in Pennsylvania through approximately milepost (MP) 68.2 of the certificated route. As part of Phase 1, PennEast proposes to include new delivery points with Columbia Gas Transmission, LLC and Adelphia Gateway, LLC at a new metering and regulating station (Church Road Interconnects) in Northampton County, Pennsylvania. The Phase 1 facilities would deliver up to 650,000 dekatherms per day of firm transportation service to the new delivery points. PennEast states it will continue to work towards acquiring the New Jersey authorizations for the Phase 2 facilities located in New Jersey.

The EA assesses the potential environmental effects of the construction and operation of the PennEast 2020 Amendment Project in accordance with the requirements of the National Environmental Policy Act (NEPA). The FERC staff concludes that approval of the proposed amendment, with appropriate mitigating measures, would not constitute a major federal action significantly affecting the quality of the human environment.

The U.S. Army Corps of Engineers (COE), U.S. Environmental Protection Agency (EPA), and U.S. Department of Agriculture (USDA)—Natural Resources Conservation Service (NRCS) participated as cooperating agencies in the preparation of the EA. Cooperating agencies have jurisdiction by law or special expertise with respect to resources potentially affected by the proposal and participate in the NEPA analysis. In addition to the lead and cooperating agencies, other federal, state, and local agencies may use this EA in approving or issuing permits for all or part of the PennEast 2020 Amendment Project.

The proposed PennEast 2020 Amendment Project includes the following facilities:

• New interconnection facilities in Bethlehem Township, Northampton County, Pennsylvania (Church Road Interconnects), including:

○ A metering and regulation station, and a pig ¹ launcher and receiver, at approximate at MP 68.2 of the certificated route; and

¹ A pipeline pig is a device used to clean or inspect the pipeline. A pig launcher/receiver is an aboveground facility where pigs are inserted or retrieved from the pipeline.

○ two separate interconnection and measurement facilities;

• phasing of the certificated facilities, such that PennEast would construct and operate the facilities—including the modifications under the PennEast 2020 Amendment application—in two phases:

○ Phase 1 would consist of construction of the certificated route to approximate milepost 68.2, including two of the compressor units at the Kidder Compressor Station in Carbon County, Pennsylvania, as well as the new interconnection facilities in Northampton County, Pennsylvania; and

○ Phase 2 would consist of the remainder of the certificated facilities from approximate MP 68.2 to MP 114 and would include the third compressor unit at the Kidder Compressor Station. Proposed Phase 2 facilities are located in Northampton and Bucks Counties, Pennsylvania, and Hunterdon and Mercer Counties, New Jersey.

The Commission mailed a copy of the Notice of Availability to federal, state, and local government representatives and agencies; Native American tribes; potentially affected landowners; and other interested individuals and groups that filed comments on the project docket prior to issuance of the notice. The EA is only available in electronic format. It may be viewed and downloaded from the FERC's website (www.ferc.gov), on the natural gas environmental documents page (https://www.ferc.gov/industries-data/natural-gas/environment/environmental-documents).

In addition, the EA may be accessed by using the eLibrary link on the FERC's website. Click on the eLibrary link (https://www.ferc.gov/ferc-online/elibrary/overview), select General Search and enter the docket number in the Docket Number field, excluding the last three digits (i.e. CP20-47). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of issues raised in this proceeding. Any person wishing to comment on the EA may do so. Your comments should focus on the EA's disclosure and discussion of potential environmental effects, reasonable alternatives, and measures to avoid or lessen environmental impacts. The more specific your comments, the more useful they would be. To ensure that the Commission has the opportunity to consider your comments prior to making its decision on this project, it is important that we receive your comments in Washington, DC on or before 5:00 p.m. Eastern Time on September 2, 2020.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on eRegister. You must select the type of filing you are making. If you are filing a comment on a particular project, please select Comment on a Filing; or

(3) You can file a paper copy of your comments by mailing them to the following address using the U.S. Postal Service. Be sure to reference the project docket number (CP20-47-000) with your submission: Kimberly D. Bose, Secretary, Federal Energy Regulatory Commission, 888 First Street NE, Room 1A, Washington, DC 20426 NE, Room 1A, Washington, DC 20426. Submissions sent through carriers other than the U.S. Postal Service must be sent to 12225 Wilkins Avenue, Rockville, Maryland 20852 for processing.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the PennEast 2020 Amendment Project is available from the Commission's Office of External Affairs, at (866) 208-FERC, or on the FERC website (www.ferc.gov) using eLibrary. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to https://www.ferc.gov/ferc-online/overview to register for eSubscription.

Dated: August 3, 2020.
Kimberly D. Bose,
Secretary.

[FR Doc. 2020-17298 Filed 8-6-20; 8:45 am]

BILLING CODE 6717-01-P